DEPARTMENT OF ENERGY

Federal Energy Regulatory Commission

[Project No. 7804-029]

Gerald and Glenda Ohs, Gerald Ohs; Notice of Application for Partial Transfer of License and Soliciting Comments, Motions To Intervene, and Protests

On July 14, 2017 and supplemented on November 2, 2017, Gerald Ohs and Glenda Ohs co-licensees (transferors) filed an application for the partial transfer of license for the North Willow Creek Project No. 7804, from Gerald and Glenda Ohs as co-licensees (transferors) to Gerald Ohs as sole licensee (transferee). The project is located on North Willow Creek in Madison County, Montana.

The applicants seek Commission approval to partially transfer the license for the North Willow Creek Project from the transferors as co-licensees to Gerald Ohs as sole-licensee.

Applicant's Contacts: For Transferors/Transferee: Mr. Gerald Ohs and Ms. Glenda Ohs, P.O. Box 625, 63 North Willow Creek Road, Pony, Montana 59747, Phone: 406-431-5450, Email: klazysranch@yahoo.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-7804-029.

Dated: March 27, 2018.
Kimberly D. Bose,
Secretary.

[FR Doc. 2018-06647 Filed 3-30-18; 8:45 am]

BILLING CODE 6717-01-P